DEPARTMENT OF HOMELAND SECURITY

Coast Guard

33 CFR Part 117

[USCG-2010-0029]

Drawbridge Operation Regulations; Hackensack River, Jersey City, NJ, Maintenance

AGENCY: Coast Guard, DHS.

ACTION: Notice of temporary deviation from regulations.

SUMMARY: The Commander, First Coast Guard District, has issued a temporary deviation from the regulation governing the operation of the Route 1 & 9 (Lincoln Highway) Bridge, mile 1.8, across the Hackensack River at Jersey City, New Jersey. This deviation allows the bridge owner to require a two hour advance notice for bridge openings April through September and several bridge closures to facilitate bridge painting operations. Vessels that can pass under the draw without a bridge opening may do so at all times.

DATES: This deviation is effective from April 1, 2010 through September 15, 2010.

ADDRESSES: Documents indicated in this preamble as being available in the docket are part of docket USCG-2010-0029 and are available online at http://www.regulations.gov. They are also available for inspection or copying at the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: If you have questions on this rule call Joe Arca, Project Officer, First Coast Guard District, at (212) 668-7165. If you have questions on viewing the docket, call Renee V. Wright, Program Manager, Docket Operations, telephone 202-366-9826.

SUPPLEMENTARY INFORMATION: The Route 1 & 9 (Lincoln Highway) Bridge across the Hackensack River at mile 1.8, at Jersey City, New Jersey, has a vertical clearance in the closed position of 35 feet at mean high water and 40 feet at mean low water. The bridge opens on signal as required by 33 CFR 117.723(a)(5).

The bridge owner, the New Jersey Department of Transportation, requested a temporary deviation to require at least a two hour advance notice for bridge openings to allow workers sufficient time to clear painting equipment from the lift span in order to provide bridge openings.

In addition, several bridge closures will be necessary during the effective time period for this temporary deviation in order to facilitate various phases of this bridge painting project that must be completed with the bridge closed.

The exact times and dates for the bridge closures could not be determined prior to publication of this temporary deviation. They will be announced in the Local Notice to Mariners two weeks prior to their implementation. A broadcast notice to mariners will also be initiated twenty four hours in advance to further inform mariners of the proposed bridge closures.

Under this deviation the Route 1 & 9 (Lincoln Highway) Bridge shall require at least a two hour advance notice for bridge openings from April 1, 2010 through September 15, 2010. In addition, several bridge closures to be announced as stated above, will occur during the effective period of this temporary deviation from April 1, 2010 and September 15, 2010.

Vessels able to pass under the closed draw may do so at all times.

The waterway is primarily used by deep draft tankers, tugs and barge units. Waterway users were advised of the requested bridge closure period and offered no objection.

In accordance with 33 CFR 117.35(e), the bridge must return to its regular operating schedule immediately at the end of the designated time period. This deviation from the operating regulations is authorized under 33 CFR 117.35.

Dated: March 16, 2010.
Gary Kassof,
Bridge Program Manager, First Coast Guard District.

[FR Doc. 2010-7238 Filed 3-30-10; 8:45 am]

BILLING CODE 9110-04-P